FEDERAL MARITIME COMMISSION

Sunshine Act Meetings

TIME AND DATE: October 22, 2024; 1:00 p.m.

PLACE: The meeting will be held at the Surface Transportation Board at the address below and also streamed live on the Federal Maritime Commission's YouTube channel.

Surface Transportation Board, 395 E Street SW, Room #1042 (Hearing Room), Washington, DC 20423

STATUS: Parts of this meeting will be open to the public. The rest of the meeting will be closed to the public. The meeting will be held on October 22, 2024, beginning at 1:00 p.m. in the Hearing Room of the Surface Transportation Board and the public portion of the meeting will be streamed live on the Federal Maritime Commission's YouTube channel. Any person wishing to attend the public portion of the meeting in-person should report to Surface Transportation Board with enough time to clear building security procedures. If technical issues prevent the Commission from streaming live, the Commission will post a recording of the public portion of the meeting on the Commission's YouTube channel following the meeting.

MATTERS TO BE CONSIDERED:

PORTIONS OPEN TO THE PUBLIC:

1. Update on Enforcement

2. Update on Status of Ocean Shipping Reform Act of 2022—Charge Complaints

3. Update on Federal Maritime Commission Information Technology

PORTIONS CLOSED TO THE PUBLIC:

1. Internal Portion—Update on Enforcement

2. Internal Portion—Update on Status of Ocean Shipping Reform Act of 2022—Charge Complaints

3. Internal Portion—Update on Federal Maritime Commission Information Technology

CONTACT PERSON FOR MORE INFORMATION: David Eng, Secretary, (202) 523-5725.

David Eng,
Secretary, Federal Maritime Commission.

[FR Doc. 2024-23891 Filed 10-10-24; 4:15 pm]

BILLING CODE 6730-02-P